DEPARTMENT OF THE INTERIOR

Bureau of Ocean Energy Management

Environmental Documents Prepared for Oil, Gas, and Mineral Operations by the Gulf of Mexico Outer Continental Shelf (OCS) Region

AGENCY: Bureau of Ocean Energy Management (BOEM), Interior.

ACTION: Notice of the availability of environmental documents prepared for OCS mineral proposals by the Gulf of Mexico OCS region.

SUMMARY: BOEM, in accordance with Federal regulations that implement the National Environmental Policy Act (NEPA), announces the availability of NEPA-related Site-Specific Environmental Assessments (SEAs) and Findings of No Significant Impact (FONSIs). These documents were prepared during the period July 1, 2012, through September 30, 2012, for oil, gas, and mineral-related activities that were proposed in the Gulf of Mexico, and are more specifically described in the Supplementary Information section of this notice.

FOR FURTHER INFORMATION CONTACT: Bureau of Ocean Energy Management, Gulf of Mexico OCS Region, Attention: Public Information Office (GM 250E), 1201 Elmwood Park Boulevard, Room 250, New Orleans, Louisiana 70123-2394, or by calling 1-800-200-GULF.

SUPPLEMENTARY INFORMATION: BOEM prepares SEAs and FONSIs for certain proposals that relate to exploration, development, production, and transport of oil, gas, and mineral resources on the Federal OCS. These SEAs examine the potential environmental effects of proposed activities and present BOEM conclusions regarding the significance of those effects. The SEAs are used as a basis for determining whether or not approval of a proposal constitutes a major Federal action that significantly affects the quality of the human environment in accordance with NEPA Section 102(2)(C). A FONSI is prepared in those instances when BOEM finds that approval will not result in significant effects on the quality of the human environment. The FONSI briefly presents the basis for that finding and includes a summary or copy of the SEA.

This notice constitutes the public notice of availability of environmental documents required under the NEPA regulations.

Activity/Operator | Location | Date
Shell Offshore Inc., Geological & Geophysical Survey, SEA L12-005 | Located in the Central Planning Area of the Gulf of Mexico | 7/3/2012
Cobalt International Energy, L.P., Exploration Plan, SEA R-5605 | Located in the Central Planning Area of the Gulf of Mexico, south of Louisiana | 7/3/2012
Noble Energy, Inc., Exploration Plan, SEA N-9644 | Located in the Central Planning Area of the Gulf of Mexico, southeast of Venice, Louisiana | 7/3/2012
Hunt Oil Company, Structure Removal, SEA ES/SR 12-118 | High Island, Block A554, Lease OCS-G 21356, located 87 miles from the nearest Texas shoreline | 7/5/2012
Murphy Exploration & Production Company—USA, Exploration Plan, SEA R-5399 | Mississippi Canyon, Block 950, Lease OCS-G 27318, located 71 miles from the nearest Louisiana shoreline | 7/5/2012
Tana Exploration Company LLC, Structure Removal, SEA ES/SR 12-111 | High Island, Block 47, Lease OCS-G 23193, located 17 miles from the nearest Louisiana shoreline | 7/6/2012
Tana Exploration Company LLC, Structure Removal, SEA ES/SR 12-116 | High Island, Block 73, Lease OCS-G 25553, located 20 miles from the nearest Louisiana shoreline | 7/6/2012
Walter Oil & Gas Corporation, Structure Removal, SEA ES/SR 12-161 | Eugene Island, Block 143, Lease OCS-G 17973, located 22 miles from the nearest Louisiana shoreline | 7/9/2012
Stone Energy Corporation, Structure Removal, SEA ES/SR 12-205 | Ship Shoal, Block 114, Lease OCS 00064, located 14 miles from the nearest Louisiana shoreline | 7/9/2012
Apache Corporation, Structure Removal, SEA ES/SR 12-073, 07-074 & 07-075 | Eugene Island, Block 108, Lease OCS-G 03811, located 22 miles from the nearest Louisiana shoreline | 7/10/2012
McMoRan Oil & Gas LLC, Structure Removal, SEA ES/SR 12-152 | South Marsh Island, Block 146, Lease OCS-G 09546, located 83 miles from the nearest Louisiana shoreline | 7/10/2012
Stone Energy Corporation, Structure Removal, SEA ES/SR 07-076A | South Pelto, Block 23, Lease OCS-G 01238, located 16 miles from the nearest Louisiana shoreline | 7/10/2012
Stone Energy Corporation, Structure Removal, SEA ES/SR 12-144 | South Timbalier, Block 11, Lease OCS-G 13925, located 3 miles from the nearest Louisiana shoreline | 7/10/2012
Maritech Resources, Inc., Structure Removal, SEA ES/SR 11-297 | Vermilion, Block 250, Lease RUE OCS-G 23670, located 66 miles from the nearest Louisiana shoreline | 7/10/2012
Mariner Energy Resources, Inc., Structure Removal, SEA ES/SR 12-009 | Vermilion, Block 26, Lease OCS 00297, located 5 miles from the nearest Louisiana shoreline | 7/10/2012
Mariner Energy Resources, Inc., Structure Removal, SEA ES/SR 12-032 | Vermilion, Block 26, Lease OCS 00297, located 5 miles from the nearest Louisiana shoreline | 7/10/2012
Tana Exploration Company LLC, Structure Removal, SEA ES/SR 12-110 | West Cameron, Block 202, Lease OCS-G 24718, located 31 miles from the nearest Louisiana shoreline | 7/10/2012
Tarpon Operating & Development, L.L.C., Structure Removal, SEA ES/SR 12-108 | Brazos, Block A76, Lease OCS-G 26469, located 38 miles from the nearest Texas shoreline | 7/11/2012
Mobil Oil Exploration & Producing Southeast Inc., Structure Removal, SEA ES/SR 12-175 | Mobile, Block 822, Lease OCS-G 05056, located 3 miles from the nearest Alabama shoreline | 7/11/2012
Apache Corporation, Structure Removal, SEA ES/SR 11-162 | South Marsh Island, Block 58, Lease OCS-G 01194, located 57 miles from the nearest Louisiana shoreline | 7/11/2012
Chevron U.S.A. Inc., Structure Removal, SEA ES/SR 12-171 | Vermilion, Block 24, Lease OCS-G 03543, located 4 miles from the nearest Louisiana shoreline | 7/11/2012
Mariner Energy Resources, Inc., Structure Removal, SEA ES/SR 12-005 | Vermilion, Block 26, Lease OCS 00297, located 5 miles from the nearest Louisiana shoreline | 7/11/2012
Mariner Energy Resources, Inc., Structure Removal, SEA ES/SR 12-025 | Vermilion, Block 26, Lease OCS-G 00297, located 5 miles from the nearest Louisiana shoreline | 7/11/2012
ATP Oil & Gas Corporation, Structure Removal, SEA ES/SR 12-176 | West Cameron, Block 479, Lease RUE OCS-G 30039, located 78 miles from the nearest Louisiana shoreline | 7/11/2012
Pisces Energy LLC, Structure Removal, SEA ES/SR 11-332A & 11-329A | West Cameron, Block 91, Lease OCS-G 13557, located 12 miles from the nearest Louisiana shoreline | 7/11/2012
Medco Energi US LLC, Structure Removal, SEA ES/SR 12-121 | Brazos, Block 437, Lease OCS-G 27476, located 12 miles from the nearest Texas shoreline | 7/12/2012
Castex Offshore, Inc., Structure Removal, SEA ES/SR 12-190 | Eugene Island, Block 320, Lease OCS-G 26040, located 62 miles from the nearest Louisiana shoreline | 7/12/2012
Chevron U.S.A. Inc., Structure Removal, SEA ES/SR 12-163 | South Timbalier, Block 52, Lease OCS-G 01241, located 13 miles from the nearest Louisiana shoreline | 7/12/2012
Mariner Energy Resources, Inc., Structure Removal, SEA ES/SR 12-187 | Vermilion, Block 26, Lease OCS 00297, located 4 miles from the nearest Louisiana shoreline | 7/12/2012
BP Exploration & Production Inc., Development Operations Coordination Document, SEA S-7530 | Green Canyon, Block 743, located 121 miles from the nearest Louisiana shoreline, south of New Orleans, Louisiana | 7/13/2012
Apache Corporation, Structure Removal, SEA ES/SR 12-012 | Ship Shoal, Block 235, Lease OCS-G 23908, located 40 miles from the nearest Louisiana shoreline | 7/13/2012
Mariner Energy, Inc., Structure Removal, SEA ES/SR 12-112 | South Marsh Island, Block 106, Lease OCS-G 02279, located 74 miles from the nearest Louisiana shoreline | 7/13/2012
Apache Corporation, Structure Removal, SEA ES/SR 12-058 | South Timbalier, Block 139, Lease OCS-G 18040, located 26 miles from the nearest Louisiana shoreline | 7/13/2012
Mariner Energy Resources, Inc., Structure Removal, SEA ES/SR 12-035 | Vermilion, Block 26, Lease OCS 00297, located 4 miles from the nearest Louisiana shoreline | 7/13/2012
Badger Oil Corporation, Structure Removal, SEA ES/SR 12-185 | High Island, Block A247, Lease OCS-G 30685, located 78 miles from the nearest Louisiana shoreline | 7/16/2012
Shell Offshore Inc., Exploration Plan, SEA N-9643 | De Soto Canyon, Blocks 799 & 843 Leases OCS-G 31572 & 23540, respectively, located 109 miles from the nearest Louisiana shoreline, southeast of Venice, Louisiana | 7/17/2012
McMoRan Oil & Gas LLC, Structure Removal, SEA ES/SR 12-148 | East Cameron, Block 42, Lease OCS-G 02857, located 11 miles from the nearest Louisiana shoreline | 7/17/2012
Walter Oil & Gas Corporation, Structure Removal, SEA ES/SR 12-160 | Eugene Island, Block 143, Lease OCS-G 17973, located 25 miles from the nearest Louisiana shoreline | 7/17/2012
McMoRan Oil & Gas LLC, Structure Removal, SEA ES/SR 12-150 | Eugene Island, Block 193, Lease OCS-G 00572, located 39 miles from the nearest Louisiana shoreline | 7/17/2012
Castex Offshore, Inc., Structure Removal, SEA ES/SR 12-191 | Eugene Island, Block 271, Lease OCS-G 31375, located 60 miles from the nearest Louisiana shoreline | 7/17/2012
Mariner Energy Resources, Inc., Structure Removal, SEA ES/SR 12-080 | South Marsh Island, Block 11, Lease OCS-G 01182, located 35 miles from the nearest Louisiana shoreline | 7/17/2012
Chevron U.S.A. Inc., Structure Removal, SEA ES/SR 12-174 | South Marsh Island, Block 229, Lease OCS 00310, located 12 miles from the nearest Louisiana shoreline | 7/17/2012
Apache Corporation, Structure Removal, SEA ES/SR 11-160 | South Marsh Island, Block 58, Lease OCS-G 01194, located 57 miles from the nearest Louisiana shoreline | 7/17/2012
ATP Oil & Gas Corporation, Structure Removal, SEA ES/SR 12-181 | West Cameron, Block 237, Lease OCS-G 02833, located 40 miles from the nearest Louisiana shoreline | 7/17/2012
GOM Shelf LLC, Structure Removal, SEA ES/SR 12-086 | Grand Isle, Block 46, Lease OCS 00132, located 17 miles from the nearest Louisiana shoreline | 7/18/2012
McMoRan Oil & Gas LLC, Structure Removal, SEA ES/SR 12-151 | South Marsh Island, Block 17, Lease OCS-G 12886, located 40 miles from the nearest Louisiana shoreline | 7/18/2012
Nexen Petroleum U.S.A. Inc., Structure Removal, SEA ES/SR 12-141 | Vermilion, Block 321, Lease OCS-G 02088, located 86 miles from the nearest Louisiana shoreline | 7/18/2012
Nexen Petroleum U.S.A. Inc., Structure Removal, SEA ES/SR 12-155 | Vermilion, Block 340, Lease OCS-G 02091, located 90 miles from the nearest Louisiana shoreline | 7/18/2012
Westport Resources Corporation, Structure Removal, SEA ES/SR 11-224A & 11-225A | West Cameron, Block 181, Lease OCS-G 01971, located 29 miles from the nearest Louisiana shoreline | 7/18/2012
Pisces Energy LLC, Structure Removal, SEA ES/SR 11-327A & 11-328A | Eugene Island, Block 42, Lease OCS-G 04858, located 13 miles from the nearest Louisiana shoreline | 7/19/2012
W & T Offshore, Inc., Structure Removal, SEA ES/SR 12-189 | Galveston, Block 303, Lease OCS-G 04565, located 13 miles from the nearest Texas shoreline | 7/19/2012
W & T Offshore, Inc., Structure Removal, SEA ES/SR 12-193 | Ship Shoal, Block 239, Lease OCS-G 01025, located 43 miles from the nearest Louisiana shoreline | 7/19/2012
Stone Energy Corporation, Structure Removal, SEA ES/SR 12-194 | South Marsh Island, Block 275, Lease OCS-G 05477, located 32 miles from the nearest Louisiana shoreline | 7/19/2012
Stone Energy Corporation, Structure Removal, SEA ES/SR 12-192 | South Pelto, Block 15, Lease OCS-G 09652, located 11 miles from the nearest Louisiana shoreline | 7/19/2012
Maritech Resources, Inc., Structure Removal, SEA ES/SR 98-056B & 11-298A | Vermilion, Block 250, Lease OCS-G 23670, located 66 miles from the nearest Louisiana shoreline | 7/19/2012
Marathon Oil Company, Exploration Plan, SEA N-9637 | De Soto Canyon, Block 757, Lease OCS-G 31570, located 112 miles from the nearest Louisiana shoreline, southeast of Venice, Louisiana | 7/20/2012
Badger Oil Corporation, Structure Removal, SEA ES/SR 12-184 | High Island, Block A264, Lease OCS-G 15805, located 83 miles from the nearest Louisiana shoreline | 7/20/2012
Chevron U.S.A. Inc., Structure Removal, SEA ES/SR 12-178 | Ship Shoal, Block 181, Lease OCS-G 04231, located 30 miles from the nearest Louisiana shoreline | 7/20/2012
Stone Energy Corporation, Structure Removal, SEA ES/SR 12-196 | Ship Shoal, Block 56, Lease OCS-G 22695, located 16 miles from the nearest Louisiana shoreline | 7/20/2012
Stone Energy Corporation, Structure Removal, SEA ES/SR 12-195 | South Pelto, Block 5, Lease OCS-G 12027, located 5 miles from the nearest Louisiana shoreline | 7/20/2012
ATP Oil & Gas Corporation, Structure Removal, SEA ES/SR 12-180 | West Cameron, Block 237, Lease OCS-G 02833, located 40 miles from the nearest Louisiana shoreline | 7/20/2012
Apache Corporation, Structure Removal, SEA ES/SR 12-220 | West Cameron, Block 71, Lease OCG 00244, located 10 miles from the nearest Louisiana shoreline | 7/20/2012
Merit Energy Company, LLC, Structure Removal, SEA ES/SR 12-136 | Galveston, Block 252, Lease OCS-G 11307, located 13 miles from the nearest Texas shoreline | 7/23/2012
McMoRan Oil & Gas LLC, Structure Removal, SEA ES/SR 12-119A | South Marsh Island, Block 17, Lease OCS-G 12886, located 39 miles from the nearest Louisiana shoreline | 7/23/2012
Energy Partners, Ltd., Structure Removal, SEA ES/SR 12-198 | South Pass, Block 28, Lease OCS 00353, located 3 miles from the nearest Louisiana shoreline | 7/23/2012
Energy Partners, Ltd., Structure Removal, SEA ES/SR 09-195A, 12-197, 12-199, 12-200, 12-201, 12-202, 12-203, 12-204, 12-206, 12-207 & 12-210 | South Pass, Block 28, Leases OCS 00353 & 00694, located 3-4 miles from the nearest Louisiana shoreline | 7/23/2012
W & T Offshore, Inc., Structure Removal, SEA ES/SR 12-162 | West Cameron, Block 180, Lease OCS-G 00763, located 26 miles from the nearest Louisiana shoreline | 7/23/2012
Apache Deepwater LLC, Exploration Plan, SEA R-5509 | Atwater Valley, Blocks 76 & 120, Leases OCS-G 33866 & 33867, respectively, located 80 miles from the nearest Louisiana shoreline, southeast of Plaquemines Parish, Louisiana | 7/25/2012
Merit Energy Company, LLC, Structure Removal, SEA ES/SR 12-138, 12-139 & 12-140 | East Cameron, Block 23, Lease OCS-G 02853, located 3-5 miles from the nearest Louisiana shoreline | 7/25/2012
Merit Energy Company, LLC, Structure Removal, SEA ES/SR 12-133, 12-134, 12-135 & 12-137 | East Cameron, Block 23, Lease OCS-G 02853, located 5 miles from the nearest Louisiana shoreline | 7/25/2012
Chevron U.S.A. Inc., Structure Removal, SEA ES/SR 98-013 | Vermilion, Block 24, Lease OCS-G 03543, located 7 miles from the nearest Louisiana shoreline | 7/25/2012
Stone Energy Corporation, Structure Removal, SEA ES/SR 12-157 | Eugene Island, Block 242, Lease OCS-G 02898, located 54 miles from the nearest Louisiana shoreline | 7/26/2012
Chevron U.S.A. Inc., Structure Removal, SEA ES/SR 12-172 | South Marsh Island, Block 236, Lease OCS 00310, located 12 miles from the nearest Louisiana shoreline | 7/26/2012
Stone Energy Corporation, Structure Removal, SEA ES/SR 12-117 | South Timbalier, Block 81, Lease OCS-G 27155, located 18 miles from the nearest Louisiana shoreline | 7/26/2012
W & T Offshore, Inc., Structure Removal, SEA ES/SR 12-188 | West Cameron, Block 172, Lease OCS-G 01998, located 26 miles from the nearest Louisiana shoreline | 7/26/2012
Virgin Offshore U.S.A., Inc., Structure Removal, SEA ES/SR 12-213 | East Cameron, Block 104, Lease RUE-G 23680, located 30 miles from the nearest Louisiana shoreline | 7/30/2012
Virgin Offshore U.S.A., Inc., Structure Removal, SEA ES/SR 12-216 | West Cameron, Block 78, Lease OCS-G 19702, located 11 miles from the nearest Louisiana shoreline | 7/30/2012
Energy Partners, Ltd., Structure Removal, SEA ES/SR 12-103 | East Cameron, Block 109, Lease OCS-G 21065, located 27 miles from the nearest Louisiana shoreline | 8/2/2012
Virgin Offshore U.S.A., Inc., Structure Removal, SEA ES/SR 05-115 | East Cameron, Block 2, Lease OCS-G 10605, located 4 miles from the nearest Texas shoreline | 8/2/2012
Virgin Offshore U.S.A., Inc., Structure Removal, SEA ES/SR 12-211 | East Cameron, Block 219, Lease OCS-G 19750, located 63 miles from the nearest Texas shoreline | 8/2/2012
Hilcorp Energy GOM, LLC, Structure Removal, SEA ES/SR 12-186 | High Island, Block 37, Lease OCS-G 15769, located 14 miles from the nearest Louisiana shoreline | 8/2/2012
W & T Offshore, Inc., Structure Removal, SEA ES/SR 12-218 | Ship Shoal, Block 239, Lease OCS-G 01025, located 41 miles from the nearest Louisiana shoreline | 8/2/2012
Chevron U.S.A. Inc., Structure Removal, SEA ES/SR 12-179 | Vermilion, Block 24, Lease OCS-G 03543, located 4 miles from the nearest Louisiana shoreline | 8/3/2012
Energy Partners, Ltd., Structure Removal, SEA ES/SR 12-168 | Eugene Island, Block 277, Lease OCS-G 10744, located 49 miles from the nearest Louisiana shoreline | 8/8/2012
Energy Partners, Ltd., Structure Removal, SEA ES/SR 12-104 | East Cameron, Block 109, Lease OCS-G 21065, located 26 miles from the nearest Louisiana shoreline | 8/9/2012
Energy Partners, Ltd., Structure Removal, SEA ES/SR 08-142A | East Cameron, Block 111, Lease OCS-G 25944, located 30 miles from the nearest Louisiana shoreline | 8/9/2012
Virgin Offshore U.S.A., Inc., Structure Removal, SEA ES/SR 12-212 | East Cameron, Block 122, Lease OCS-G 27042, located 37 miles from the nearest Texas shoreline | 8/9/2012
Virgin Offshore U.S.A., Inc., Structure Removal, SEA ES/SR 10-002A | High Island, Block 198, Lease OCS-G 17151, located 27 miles from the nearest Texas shoreline | 8/9/2012
Chevron U.S.A. Inc., Structure Removal, SEA ES/SR 12-173 | South Marsh Island, Block 217, Lease OCS 00310, located 7 miles from the nearest Louisiana shoreline | 8/9/2012
Virgin Offshore U.S.A., Inc., Structure Removal, SEA ES/SR 12-214 | West Cameron, Block 41, Lease OCS-G 17753, located 6 miles from the nearest Texas shoreline | 8/9/2012
Pisces Energy LLC, Structure Removal, SEA ES/SR 06-092 | Eugene Island, Block 53, Lease OCS 00479, located 13 miles from the nearest Louisiana shoreline | 8/10/2012
Anadarko Petroleum Corporation, Exploration Plan, SEA N-9642 | Walker Ridge, Block 794, located 206 miles from the nearest Louisiana shoreline | 8/23/2012
Bandon Oil and Gas, LP, Structure Removal, SEA ES/SR 11-234 | High Island, Block A447, Lease OCS-G 02360, located 78 miles from the Texas shoreline | 9/4/2012
Hilcorp Energy GOM, LLC, Structure Removal, SEA ES/SR 12-177 | Vermilion, Block 31, Lease OCS-G 02868, located 7 miles from the nearest Louisiana shoreline | 9/4/2012
McMoRan Oil & Gas LLC, Structure Removal, SEA ES/SR 12-219 | Eugene Island, Block 193, Lease OCS-G 00572, located 40 miles from the nearest Louisiana shoreline | 9/5/2012
Bandon Oil and Gas, LP, Structure Removal, SEA ES/SR 11-076 | High Island, Block A447, Lease OCS-G 02360, located 160 miles from the nearest Texas shoreline | 9/5/2012
Apache Corporation, Structure Removal, SEA ES/SR 11-221 | High Island, Block A537, Lease OCS-G 22048, located 81 miles from the nearest Texas shoreline | 9/5/2012
PetroQuest Energy, L.L.C., Structure Removal, SEA ES/SR 12-221 | Ship Shoal, Block 71, Lease OCS-G 12347, located 6 miles from the nearest Louisiana shoreline | 9/5/2012
Anadarko Petroleum Corporation, Exploration Plan, SEA R-5597 | Atwater Valley, Blocks 28, 29 & 73, respectively, located 78 miles from the nearest Louisiana shoreline, southeast of Venice, Louisiana | 9/6/2012
Cobalt International Energy, L.P., Exploration Plan, SEA R-5615 | Green Canyon, Blocks 895 & 896, Leases OCS-G 26345 & 31765, respectively, located 136 miles from the nearest Louisiana shoreline, south of Terrebonne Parish, Louisiana | 9/6/2012
Exxon Mobil Corporation, Exploration Plan, SEA R-5652 | Keathley Canyon, Block 919, located 216 miles from the nearest Louisiana shoreline | 9/6/2012
Tengasco, Inc., Structure Removal, SEA ES/SR 12-223 | Chandeleur, Block 27, Lease OCS-G 32266, located 3 miles from the nearest Mississippi shoreline | 9/10/2012
Tengasco, Inc., Structure Removal, SEA ES/SR 12-225 | Chandeleur, Block 30, Lease OCS-G 24002, located 7 miles from the nearest Mississippi shoreline | 9/10/2012
Tengasco, Inc., Structure Removal, SEA ES/SR 12-222 | Chandeleur, Block 30, Lease OCS-G 24002, located 8 miles from the nearest Mississippi shoreline | 9/10/2012
WesternGeco, LLC, Geological & Geophysical Survey, SEA L12-017 | Located in the Western and Central Planning Areas of the Gulf of Mexico | 9/10/2012
Stone Energy Corporation, Structure Removal, SEA ES/SR 12-208 & 12-209 | South Marsh Island, Block 249, Lease RUE-G 23644, located 19 miles from the nearest Louisiana shoreline | 9/10/2012
Stone Energy Corporation, Structure Removal, SEA ES/SR 11-291A | West Delta, Block 97, Lease RUE-G 30068, located 26 miles from the nearest Louisiana shoreline | 9/10/2012
Energy Partners, Ltd., Structure Removal, SEA ES/SR 12-169 | Eugene Island, Block 277, Lease OCS-G 10744, located 51 miles from the nearest Louisiana shoreline | 9/11/2012
Helis Oil & Gas Company, L.L.C., Structure Removal, SEA ES/SR 12-227 | High Island, Block 129, Lease OCS-G 01848, located 27 miles from the nearest Texas shoreline | 9/11/2012
PetroQuest Energy, L.L.C., Structure Removal, SEA ES/SR 12-226 | Ship Shoal, Block 63, Lease OCS 00057, located 4 miles from the nearest Louisiana shoreline | 9/11/2012
PetroQuest Energy, L.L.C., Structure Removal, SEA ES/SR 12-247 | Ship Shoal, Block 87, Lease OCS-G 12349, located 8 miles from the nearest Louisiana shoreline | 9/11/2012
Apache Deepwater LLC, Exploration Plan, SEA N-9645 | Green Canyon, Block 363, Lease OCS-G 32495, located 101.9 miles from the nearest Louisiana shoreline, south of Terrebonne Parish, Louisiana | 9/12/2012
Stone Energy Corporation, Structure Removal, SEA ES/SR 12-260 | Eugene Island, Block 166, Lease OCS-G 22664, located 27 miles from the nearest Louisiana shoreline | 9/13/2012
Global Geophysical Services, Inc., Geological & Geophysical Survey, SEA L10-048 | Located in the Central Planning Area of the Gulf of Mexico | 9/16/2012
Dynamic Offshore Resources, LLC, Structure Removal, SEA ES/SR 12-107 | West Delta, Block 58, Lease OCS 00146, located 7 miles from the nearest Louisiana shoreline | 9/17/2012
Shell Offshore Inc., Exploration Plan, SEA S-7574 | De Soto Canyon, Block 529, Lease OCS-G 23517, located 83 miles from the nearest Louisiana shoreline, southeast of Venice, Louisiana | 9/18/2012
Energy Resource Technology GOM, Inc., Structure Removal, SEA ES/SR 12-238 | South Pelto, Block 19, Lease OCS 00073, located 7 miles from the nearest Louisiana shoreline | 9/19/2012
Energy Resource Technology GOM, Inc., Structure Removal, SEA ES/SR 12-259 | Vermilion, Block 200, Lease OCS-G 09500, located 53 miles from the nearest Louisiana shoreline | 9/19/2012
Virgin Offshore U.S.A., Inc., Structure Removal, SEA ES/SR 12-228 | West Cameron, Block 41, Lease OCS-G 17753, located 6 miles from the nearest Texas shoreline | 9/19/2012
Signal Oil & Gas Company, Structure Removal, SEA ES/SR 12-105 & 12-106 | West Delta, Block 50, Lease OCS-G 05050, located 4 miles from the nearest Louisiana shoreline | 9/19/2012
EC Offshore Properties, Inc., Structure Removal, SEA ES/SR 12-262 | East Cameron, Block 71, Lease OCS-G 13576, located 17 miles from the nearest Louisiana shoreline | 9/20/2012
Mariner Energy Resources, Inc., Structure Removal, SEA ES/SR 12-248 | High Island, Block 206, Lease OCS-G 20660, located 26 miles from the nearest Louisiana shoreline | 9/20/2012
Energy Resource Technology GOM, Inc., Structure Removal, SEA ES/SR 12-258 | South Pelto, Block 19, Lease OCS 00073, located 7 miles from the nearest Louisiana shoreline | 9/20/2012
Mariner Energy Resources, Inc., Structure Removal, SEA ES/SR 12-244 | Brazos, Block A17, Lease OCS-G 23166, located 38 miles from the nearest Texas shoreline | 9/24/2012
Anadarko Petroleum Corporation, Exploration Plan, SEA S-7569 | East Breaks, Block 645, Lease OCS-G 32822, located 118 miles from the nearest Louisiana shoreline | 9/24/2012
Apache Corporation, Structure Removal, SEA ES/SR 12-245 & 12-246 | Eugene Island, Block 162, Lease OCS-G 11952, located 33 miles from the nearest Louisiana shoreline | 9/24/2012
Shell Offshore Inc., Exploration Plan, SEA R-5685 | Garden Banks, Block 427, Lease OCS-G 07493, located 134 miles from the nearest Louisiana shoreline | 9/24/2012
BHP Billiton Petroleum (GOM) Inc., Exploration Plan, SEA R-5663 | Green Canyon, Block 507, located 111 miles from the nearest Louisiana shoreline | 9/24/2012
Badger Oil Corporation, Structure Removal, SEA ES/SR 12-183 | High Island, Block A263, Lease OCS-G 13342, located 84 miles from the nearest Louisiana shoreline | 9/24/2012
Apache Corporation, Structure Removal, SEA ES/SR 12-252 | Eugene Island, Block 88, Lease OCS-G 10721, located 25 miles from the nearest Louisiana shoreline | 9/26/2012
EMGS Americas, Geological & Geophysical Survey, SEA L12-013 | Located in the Central Planning Area of the Gulf of Mexico | 9/26/2012
Apache Corporation, Structure Removal, SEA ES/SR 11-159 | South Marsh Island, Block 58, Lease OCS-G 01194, located 57 miles from the nearest Louisiana shoreline | 9/26/2012
Energy Resource Technology GOM, Inc., Structure Removal, SEA ES/SR 12-242 | Vermilion, Block 241, Lease RUE-G 30119, located 64 miles from the nearest Louisiana shoreline | 9/26/2012
Energy Resource Technology GOM, Inc., Structure Removal, SEA ES/SR 12-243 | West Cameron, Block 170, Lease OCS-G 04085, located 24 miles from the nearest Louisiana shoreline | 9/26/2012
Virgin Offshore U.S.A., Inc., Structure Removal, SEA ES/SR 12-215 | West Cameron, Block 494, Lease OCS-G 15097, located 84 miles from the nearest Texas shoreline | 9/26/2012
Energy Resource Technology GOM, Inc., Structure Removal, SEA ES/SR 12-229 | East Cameron, Block 235, Lease OCS-G 25965, located 64 miles from the nearest Louisiana shoreline | 9/27/2012
BP Exploration & Production Inc., Development Operations Coordination Document, SEA S-7417 | Mississippi Canyon, Block 429, Lease OCS-G 07944, located 56 miles from the nearest Louisiana shoreline, southeast of Plaquemines Parish, Louisiana | 9/27/2012
Energy Resource Technology GOM, Inc., Structure Removal, SEA ES/SR 12-241 | Ship Shoal, Block 223, Lease OCS-G 01526, located 42 miles from the nearest Louisiana shoreline | 9/27/2012
Stone Energy Corporation, Structure Removal, SEA ES/SR 12-049A | South Pass, Block 38, Lease OCS-G 21695, located 4 miles from the nearest Louisiana shoreline | 9/27/2012
Energy Resource Technology GOM, Inc., Structure Removal, SEA ES/SR 08-085 | South Pelto, Block 12, Lease OCS 00072, located 10 miles from the nearest Louisiana shoreline | 9/27/2012
Energy Resource Technology GOM, Inc., Structure Removal, SEA ES/SR 08-031 | South Pelto, Block 12, Lease OCS 00072, located 7 miles from the nearest Louisiana shoreline | 9/27/2012
Mariner Energy Resources, Inc., Structure Removal, SEA ES/SR 12-249, 12-250, 12-251 & 97-114A | Vermilion, Block 26, Lease OCS 00297, located 5-6 miles from the nearest Louisiana shoreline | 9/27/2012
Energy Resource Technology GOM, Inc., Structure Removal, SEA ES/SR 12-263 & 12-264 | Viosca Knoll, Block 203, Lease OCS-G 07890, located 28 miles from the nearest Louisiana shoreline | 9/27/2012
Energy Resource Technology GOM, Inc., Structure Removal, SEA ES/SR 12-230 & 12-231 | Eugene Island, Block 148, Lease OCS-G 13620, located 30 miles from the nearest Louisiana shoreline | 9/28/2012
Apache Corporation, Structure Removal, SEA ES/SR 12-253 | Main Pass, Block 90, Lease OCS-G 19853, located 8 miles from the nearest Louisiana shoreline | 9/28/2012

Persons interested in reviewing environmental documents for the proposals listed above or obtaining information about the SEAs and FONSIs prepared by the Gulf of Mexico OCS Region are encouraged to contact BOEM at the address or telephone listed in the FOR FURTHER INFORMATION CONTACT section.

Dated: November 13, 2012.
John Rodi,
Regional Director, Gulf of Mexico OCS Region.

[FR Doc. 2012-30084 Filed 12-12-12; 8:45 am]

BILLING CODE 4310-MR-P